DEPARTMENT OF COMMERCE

International Trade Administration

[A-523-815]

Certain Aluminum Foil From the Sultanate of Oman: Final Results of Antidumping Duty Administrative Review; 2022-2023

AGENCY: Enforcement and Compliance, International Trade Administration, Department of Commerce.

SUMMARY: The U.S. Department of Commerce (Commerce) determines that Oman Aluminium Rolling Company (OARC) made sales of subject merchandise at less than normal value during the period of review (POR), November 1, 2022, through October 31, 2023.

DATES: Applicable September 12, 2025.

FOR FURTHER INFORMATION CONTACT: Alexander Cipolla, AD/CVD Operations, Office III, Enforcement and Compliance, International Trade Administration, U.S. Department of Commerce, 1401 Constitution Avenue NW, Washington, DC 20230; telephone: (202) 482-4956.

SUPPLEMENTARY INFORMATION:

Background

On December 13, 2024, Commerce published the Preliminary Results and invited interested parties to comment.¹ On December 9, 2024, Commerce tolled certain deadlines by 90 days.² On April 30, 2025, the petitioners and OARC filed timely case briefs.³ On May 5, 2025, the petitioners and OARC filed timely rebuttal briefs.⁴

¹ See Certain Aluminum Foil from the Sultanate of Oman: Preliminary Results of Antidumping Duty Administrative Review; 2022-2023, 89 FR 100976 (December 13, 2024) (Preliminary Results).

² See Memorandum, “Tolling of Deadlines for Antidumping and Countervailing Duty Proceedings,” dated December 9, 2024. As this memorandum was issued after the Preliminary Results were signed, but before they were published, these final results were tolled.

³ See Petitioners' Letter, “Petitioners' Affirmative Case Brief,” dated April 30, 2025 (Petitioners' Case Brief); see also OARC's Letter, “Case Brief,” dated April 30, 2025 (OARC's Case Brief).

⁴ See Petitioners' Letter, “Petitioners' Rebuttal Case Brief,” dated May 5, 2025 (Petitioners' Rebuttal Brief); see also OARC's Letter, “OARC's Rebuttal Brief,” dated May 5, 2025 (OARC's Rebuttal Brief).

On June 30, 2025, Commerce extended the deadline for these final results by 60 days.⁵ The deadline for the final results of this review is September 8, 2025. On July 18, 2025, Commerce issued a post-preliminary analysis in this administrative review and invited interested parties to comment.⁶ We received no comments from interested parties. For a complete description of the events that occurred since the Preliminary Results, see the Issues and Decision Memorandum.⁷ Commerce conducted this administrative review in accordance with section 751 of the Tariff Act of 1930, as amended (the Act).

⁵ See Memorandum, “Extension of Deadline for the Final Results of Antidumping Duty Administrative Review,” dated June 30, 2025.

⁶ See Memorandum, “Post-Preliminary Analysis of the Antidumping Duty Administrative Review of Certain Aluminum Foil from the Sultanate of Oman,” dated July 18, 2025.

⁷ See Memorandum, “Issues and Decision Memorandum for the Final Results of the Administrative Review of the Antidumping Duty Order on Certain Aluminum Foil from the Sultanate of Oman; 2022-2023,” dated concurrently with, and hereby adopted by, this notice (Issues and Decision Memorandum).

Scope of the Order ⁸

⁸ See Certain Aluminum Foil from the Republic of Armenia, Brazil, the Sultanate of Oman, the Russian Federation, and the Republic of Turkey: Antidumping Duty Orders, 86 FR 62790 (November 12, 2021) (Order).

The merchandise subject to the Order is aluminum foil from Oman. For a complete description of the scope of the Order, see the Issues and Decision Memorandum.

Analysis of Comment Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from parties we made changes to OARC's preliminary results margin calculation. For a discussion of these changes, see the Issues and Decision Memorandum.

Final Results of Review

Commerce determines the following weighted-average dumping margin exists for the period November 3, 2022, through April 30, 2024:

Exporter/producer | Weighted- average dumping margin (percent)
Oman Aluminium Rolling Company | 42.48

Disclosure

Commerce intends to disclose the calculations and analysis performed to interested parties for these final results within five days after public announcement or, if there is no public announcement, within five days after the date of publication of this notice in the Federal Register, in accordance with 19 CFR 351.224(b).

Assessment Rates

Commerce intends to issue assessment instructions to U.S. Customs and Border Protection (CBP) no earlier than 35 days after the date of publication of the final results of this review in the Federal Register. If a timely summons is filed at the U.S. Court of International Trade, the assessment instructions will direct CBP not to liquidate relevant entries until the time for parties to file a request for a statutory injunction has expired (i.e., within 90 days of publication). Where the respondent reported reliable entered values, we calculated importer- (or customer-) specific ad valorem rates by aggregating the dumping margins calculated for all U.S. sales to each importer (or customer) and dividing this amount by the total entered value of the sales to each importer (or customer).⁹ Where Commerce calculated a weighted-average dumping margin by dividing the total amount of dumping for reviewed sales to that party by the total sales quantity associated with those transactions, Commerce will direct CBP to assess importer- (or customer-) specific assessment rates based on the resulting per-unit rates.¹⁰ Where an importer- (or customer-) specific ad valorem or per-unit rate is greater than de minimis (i.e., 0.50 percent), Commerce will instruct CBP to collect the appropriate duties at the time of liquidation.¹¹ Where an importer- (or customer-) specific ad valorem or per-unit rate is zero or de minimis, Commerce will instruct CBP to liquidate appropriate entries without regard to antidumping duties.¹²

⁹ See 19 CFR 351.212(b)(1).

¹⁰ Id.

¹¹ Id.

¹² See 19 CFR 351.106(c)(2).

Consistent with Commerce's assessment practice, for entries of subject merchandise during the POR produced by OARC for which the producer did not know that its merchandise was destined for the United States, we will instruct CBP to liquidate unreviewed entries at the all-others rate if there is no rate for the intermediate company(ies) involved in the transaction.¹³

¹³ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for OARC will be equal to the weighted-average dumping margin established in the final results of this administrative review, except if the rate is less than 0.50 percent and, therefore, de minimis within the meaning of 19 CFR 351.106(c)(1), in which case the cash deposit rate will be zero; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate established in the less-than-fair-value investigation (i.e., 3.89 percent).¹⁴ These cash deposit requirements, when imposed, shall remain in effect until further notice.

¹⁴ See Certain Aluminum Foil from the Sultanate of Oman: Final Affirmative Determination of Sales at Less-Than-Fair-Value, 86 FR 52876 (September 23, 2021).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act and 19 CFR 351.213(h) and 351.221(b)(5) of Commerce's regulations.

Dated: September 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Use of Facts Otherwise Available and Application of Adverse Inference

V. Changes Since the Preliminary Results

VI. Discussion of the Issues

Comment 1: Whether Commerce Should Apply Total Adverse Facts Available (AFA) to OARC

Comment 2: Whether Commerce Should Include OARC's Cost Variances

Comment 3: Whether Commerce Should Adjust its Calculation of OARC's Affiliated Purchases of Liquid Aluminum

Comment 4: Whether Commerce Erred in Its Calculation of the Selling and Profit

Ratios Imputed to OARC

VII. Recommendation

[FR Doc. 2025-17682 Filed 9-11-25; 8:45 am]

BILLING CODE 3510-DS-P